NATIONAL AERONAUTICS AND SPACE ADMINISTRATION

[Notice: 17-053]

Notice of Intent To Hold International Space Station Stakeholder Workshop

AGENCY: National Aeronautics and Space Administration.

ACTION: Stakeholder workshop.

SUMMARY: The International Space Station (ISS) Stakeholder Workshop is intended to engage ISS stakeholders in gathering information that may be used in the development of NASA's future ISS planning activities. Specifically, the workshop targets the commercial space sector, researchers, technology developers, transportation and habitation providers, other government agencies, and other interested parties, providing a forum for dialogue with NASA on topics relevant to ISS future planning. Topics for discussion include the low Earth orbit (LEO) commercial, research, and development market; access to space; the value of permanent human habitation in LEO; and structure and planning for public/private partnerships in LEO.

DATES: Wednesday, August 9, 2017, 8:30am-6:00pm, Local Time.

ADDRESSES: Marriott Marquis Washington DC, 901 Massachusetts Ave NW., Washington, DC 20001. Please see the workshop Web site at: https://www.nasa.gov/content/international-space-station-stakeholder-workshop.

FOR FURTHER INFORMATION CONTACT: Jacob Keaton, 202-358-1507, hq-iss-leo@mail.nasa.gov.

SUPPLEMENTARY INFORMATION: The meeting will be open to the public up to the seating capacity of the room. Attendees are requested to register at: https://www.nasa.gov/content/international-space-station-stakeholder-workshop. The agenda will consist of a plenary session in the morning followed by topic-specific breakouts in the afternoon.

Tentative ISS Stakeholder Workshop Agenda

8:30-12:00 Open Session. Welcome, Objectives, Presentations.

12:00-1:00 Lunch (on your own)

1:00-3:00 Breakout Sessions Round #1

3:00-5:00 Breakout Sessions Round #2

5:00-6:00 Outbriefs and Summary

Jacob Keaton,
International Space Station, NASA Headquarters.

[FR Doc. 2017-15651 Filed 7-25-17; 8:45 am]

BILLING CODE 7510-13-P